POSTAL SERVICE

Board of Governors; Sunshine Act Meeting

Board Votes to Close June 27, 2003, Meeting

By telephone vote on June 27, 2003, the Board of Governors of the United States Postal Service voted unanimously to close to public observation its meeting held in Washington, DC, via teleconference. The Board determined that prior public notice was not possible.

Items Considered

1. Personnel Matter.

2. Postal Rate Commission Opinion and Recommended Decision in Docket No. MC2003-1, Customized Market Mail (CMM).

3. Advanced Funding Request for Human Capital Enterprise Program.

4. Strategic Planning.

General Counsel Certification

The General Counsel of the United States Postal Service has certified that the meeting was properly closed under the Government in the Sunshine Act.

For further information contact: Requests for information about the meeting should be addressed to the Secretary of the Board, William T. Johnstone, at (202) 268-4800.

William T. Johnstone,
Secretary.

[FR Doc. 03-17342 Filed 7-3-03; 11:58 am]

BILLING CODE 7710-12-M